ENVIRONMENTAL PROTECTION AGENCY

[EPA-HQ-OPP-2004-0205; FRL-8096-3]

Globally Harmonized System of Classification and Labelling of Chemicals (GHS); Notice of Public Meeting

AGENCY: Environmental Protection Agency (EPA).

ACTION: Notice.

SUMMARY: The goals of this meeting are to discuss and clarify the scope and potential application of the Globally Harmonized System of Classification and Labelling of Chemicals (GHS) to pesticide products that are registered under the Federal Insecticide, Fungicide and Rodenticide Act (FIFRA); to examine key issues raised in public comments on the Office of Pesticide Programs' (OPP's) GHS White Paper; to gain a better understanding of stakeholder concerns and explore ways to address them; and to assess potential paths forward to maximize benefits and minimize the costs. This notice announces the location and times for the meeting and sets forth the tentative agenda topics.

DATES: The meeting will be held on October 18, 2006 from 9 a.m. to 5 p.m. and 8:30 a.m. to 12:30 p.m. on October 19, 2006.

To request accommodation of a disability, please contact the person listed under FOR FURTHER INFORMATON CONTACT, preferably at least 10 days prior to the meeting, to give EPA as much time as possible to process your request.

ADDRESSES: The meeting will be held in 4th-floor conference room #4830 at Two Potomac Yard (north building), 2733 S. Crystal Drive, Arlington, VA 22202.

FOR FURTHER INFORMATION CONTACT: Janelle Christian, Field and External Affairs Division (7506P), Office of Pesticide Programs, Environmental Protection Agency, 1200 Pennsylvania Ave., NW., Washington, DC 20460-0001; telephone number: (703) 308-3003; fax number: 703-308-1850; e-mail address: christian.janelle@epa.gov.

SUPPLEMENTARY INFORMATION:

I. General Information

A. Does this Action Apply to Me?

This action is directed to the public in general. It may be of particular interest to those who register pesticide products in the United States and those involved in chemical hazard safety and communication, occupational safety and health, pesticide safety education, and aquatic hazards communication. Potentially affected commercial entities may include, but are not limited to:

• Pesticide producers (NAICS 32532).

• Producers of antimicrobial pesticides (NAICS 32561).

• Producers of antifoulant pesticides (NAICS 32551).

• Producers of wood preservatives (NAICS 32519).

B. How Can I Get Copies of this Document and Other Related Information?

1. Docket. EPA has established a docket for this action under docket identification (ID) number EPA-HQ-OPP-2004-0205. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Tentative Agenda

Tentatively, the following items are on the agenda:

1. Overview of GHS.

2. NAFTA Perspectives.

3. Goals of Harmonization: EPA and Stakeholder Perspectives.

4. Building Block and Sample Label Presentation.

5. Key Issues and Concerns Raised in Comments.

6. Options for Implementation Mechanisms.

7. Key State Issues.

8. Education, Training and Outreach.

III. How Can I Request to Participate in this Meeting?

You may submit a request to participate in this meeting to the person listed under FOR FURTHER INFORMATION CONTACT. Do not submit any information in your request that is considered CBI. Requests to participate in the meeting, identified by docket ID number EPA-HQ-OPP-2004-0205, must be received on or before October 5, 2006.

List of Subjects

Environmental protection, global harmonization, labeling, occupational safety and health, pesticides and pests, reporting and recordkeeping requirements.

Dated: September 18, 2006.
Jay S. Ellenberger,
Acting Director, Field External Affairs Division, Office of Pesticide Programs.

[FR Doc. 06-8057 Filed 9-20-06; 8:45 am]

BILLING CODE 6560-50-S